DEPARTMENT OF TRANSPORTATION

National Highway Traffic Safety Administration

[Docket No. NHTSA-2012-0073; Notice 2]

Guizhou Tyre Corporation; Grant of Petition for Decision of Inconsequential Noncompliance

AGENCY: National Highway Traffic Safety Administration, DOT.

ACTION: Grant of petition.

SUMMARY: GTC North America, Inc., on behalf of Guizhou Tyre I/E Co. LTD (collectively referred to as “GTC”) has determined that certain Samson and Advance brand ST trailer Tires, do not fully comply with paragraph S6.5(j) of Federal Motor Vehicle Safety Standard (FMVSS) No. 119, New pneumatic tires for motor vehicles with a GVWR of more than 4,536 kilograms (10,000 pounds) and motorcycles. GTC has filed an appropriate report dated March 22, 2012, pursuant to 49 CFR part 573, Defect and Noncompliance Responsibility and Reports.

Pursuant to 49 U.S.C. 30118(d) and 30120(h) and the rule implementing those provisions at 49 CFR part 556, GTC has petitioned for an exemption from the notification and remedy requirements of 49 U.S.C. Chapter 301 on the basis that this noncompliance is inconsequential to motor vehicle safety. Notice of receipt of the petition was published, with a 30-day public comment period, on June 25, 2012 in the Federal Register (77 FR 37957). No comments were received. To view the petition, and all supporting documents log onto the Federal Docket Management System (FDMS) Web site at: http://www.regulations.gov/. Then follow the online search instructions to locate docket number “NHTSA-2012-0073.”

For further information on this decision contact Mr. Jack Chern, Office of Vehicle Safety Compliance, the National Highway Traffic Safety Administration (NHTSA), telephone (202) 366-0661, facsimile (202) 366-7002.

Tires involved: Affected are approximately 4,291 size ST235/ 85R16/14 ply Samson and Advance brand ST Trailer Tires manufactured from December 4, 2011 through March 31, 2012.

Noncompliance: GTC explains that the noncompliance is that, due to a mold labeling error, the sidewall marking on the tires incorrectly identifies the load range as “F” when in fact it should be “G”.

Summary of GTS's Analysis and Arguments

GTC states that while the tire sidewall labeling incorrectly identifies the load range as “F” when in fact it should be identified as “G” it does not pose a safety issue because if a consumer followed the load range “F” designation they would actually fall below the actual recommended load carrying capacity. Since the tire load range designation “F” falls below the actual recommended load carrying capacity, the tires will perform without incident causing no safety issue.

GTC also stated that all other required sidewall markings are present and correct.

GTC has additionally informed NHTSA that it has stopped production of the subject tires, is correcting the tire molds so that the subject noncompliance does not occur in future production, and has notified dealers to discontinue selling the tires.

In summation, GTC believes that the described noncompliance of its tires is inconsequential to motor vehicle safety, and that its petition, to exempt from providing recall notification of noncompliance as required by 49 U.S.C. 30118 and remedying the recall noncompliance as required by 49 U.S.C. 30120 should be granted.

NHTSA Decision

The primary safety purpose of requiring the load range label on a motor vehicle tire is to ensure that the end-users can select a tire load range appropriate for their vehicles. The absence of the vehicle label specifying the tire load range would likely result in an improper tire selection by the tire dealer or vehicle owner. In this case, GTC understated the load carrying capability of the tire. GTC's tire, in effect, is has more load carrying capability than the label would indicate to the end-user. The agency agrees with GTC”s rational that a vehicle equipped with the subject tires and loaded per the incorrect maximum load rating would not cause an unsafe condition, because the end-user would carry a lighter load than the load for which the tires are designed.

In consideration of the foregoing, NHTSA has decided that GTC has met its burden of persuasion that the FMVSS No. 119 noncompliance in the tires identified in GTC's Noncompliance Information Report is inconsequential to motor vehicle safety. Accordingly, GTC's petition is granted and the petitioner is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the tires ¹ that GTC no longer controlled at the time that it determined that a noncompliance existed in the subject vehicles.

¹ GTC's petition, which was filed under 49 CFR Part 556, requests an agency decision to exempt GTC as a manufacturer from the notification and recall responsibilities of 49 CFR Part 573 for the affected tires. However, the decision on this petition does not relieve distributors and dealers of the prohibitions on the sale, offer for sale, or introduction or delivery for introduction into interstate commerce of the noncompliant tires under their control after GTC notified them that the subject noncompliance existed.

Authority: (49 U.S.C. 30118, 30120: delegations of authority at 49 CFR 1.95 and 501.8).

Issued on: February 11, 2013.
Claude H. Harris,
Director, Office of Vehicle Safety Compliance.

[FR Doc. 2013-04170 Filed 2-22-13; 8:45 am]

BILLING CODE 4910-59-P